DEPARTMENT OF DEFENSE

48 CFR Parts 201, 202, 203, 204, 206, 209, 212, 213, 217, 219, 225, 231, 232, 235, 236, 242, 249, 250, 252, and 253, and Appendices A and G to Chapter 2

Defense Federal Acquisition Regulation Supplement; Technical Amendments

AGENCY: Department of Defense (DoD).

ACTION: Final rule.

SUMMARY: The Director of Defense Procurement is making technical amendments to the Defense Federal Acquisition Regulation Supplement to update organization names, position titles, addresses, telephone numbers, office symbols, and references; to delete obsolete or duplicative text; and to renumber and relocate text for consistency with corresponding Federal Acquisition Regulation text.

EFFECTIVE DATE: June 27, 2000.

FOR FURTHER INFORMATION CONTACT: Ms. Michele Peterson, Defense Acquisition Regulations Council, OUSD (AT&L) DP (DAR), IMD 3D139, 3062 Defense Pentagon, Washington, DC 20301-3062. Telephone (703) 6012ndash;0311; telefax (703) 602-0350.

List of Subjects in 48 CFR Parts 201, 202, 203, 204, 206, 209, 212, 213, 217, 219, 225, 231, 232, 235, 236, 242, 249, 250, 252, and 253

Government procurement.

Michele P. Peterson,
Executive Editor, Defense Acquisition Regulations Council.

Therefore, 48 CFR Parts 201, 202, 203, 204, 206, 209, 212, 213, 217, 219, 225, 231, 232, 235, 236, 242, 249, 250, 252, and 253, and Appendices A and G to Chapter 2 are amended as follows:

1. The authority citation for 48 CFR Parts 201, 202, 203, 204, 206, 209, 212, 213, 217, 219, 225, 231, 232, 235, 236, 242, 249, 250, 252, and 253, and Appendices A and G to subchapter I continues to read as follows:

Authority: 41 U.S.C. 421 and 48 CFR Chapter 1.

PART 201—FEDERAL ACQUISITION REGULATIONS SYSTEM

201.107 [Amended]

2. Section 201.107 is amended in paragraph (2) by removing the parenthetical “(Acquisition and Technology)” and adding in its place “(Acquisition, Technology, and Logistics)”.

PART 202—DEFINITIONS OF WORDS AND TERMS

202.101 [Amended]

3. Section 202.101 is amended as follows:

a. In the definition of “Head of the agency” in the first sentence by removing the first comma and by adding a comma after “means”; and in the second sentence by removing the parenthetical “(Acquisition & Technology)” and adding in its place “(Acquisition, Technology, and Logistics)”; and

b. In the definition of “Senior procurement executive”, in the introductory text by removing the comma after “executive” and by adding a comma after “means”; and in the first and last paragraphs by removing the parenthetical “(Acquisition & Technology)” and adding in its place “(Acquisition, Technology, and Logistics)”.

PART 203—IMPROPER BUSINESS PRACTICES AND PERSONAL CONFLICTS OF INTEREST

203.570-3 [Amended]

4. Section 203.570-3 is amended in paragraph (b) by removing the parenthetical “(Acquisition)” and adding in its place “(Acquisition, Technology, and Logistics)”.

203.703 [Amended]

5. Section 203.703 is amended in the last sentence by removing the parenthetical “(Acquisition & Technology)” and adding in its place “(Acquisition, Technology, and Logistics)”.

PART 204—ADMINISTRATIVE MATTERS

204.7003 [Amended]

6. Section 204.7003 is amended in paragraph (a)(3)(viii) by removing the phrase “basic purchasing” and adding in its place “blanket purchase”.

PART 206—COMPETITION REQUIREMENTS

206.302-5 [Amended]

7. Section 206.302-5 is amended in paragraph (c)(i)(B) in the last sentence by removing the parenthetical “(Acquisition & Technology)” and adding in its place “(Acquisition, Technology, and Logistics)”.

206.304 [Amended]

8. Section 206.304 is amended in paragraph (a)(4) introductory text by removing the parenthetical “(Acquisition & Technology)” and adding in its place “(Acquisition, Technology, and Logistics)”.

PART 209—CONTRACTOR QUALIFICATIONS

209.103 [Amended]

9. Section 209.103 is amended in paragraph (a)(i)(C) by removing the parenthetical “(Acquisition & Technology)” and adding in its place “(Acquisition, Technology, and Logistics)”.

209.104-1 [Amended]

10. Section 209.104-1 is amended in paragraph (g)(ii)(C) introductory text, in the third sentence, by removing the parenthetical “(Acquisition & Technology)” and adding in its place “(Acquisition, Technology, and Logistics)”.

209.104-70 [Amended]

11. Section 209.104-70 is amended in paragraph (a) in the last sentence by removing the phrase “Director, Defense Procurement, ATTN: OUSD (A&T) DP/FC” and adding in its place “Director of Defense Procurement, ATTN: OUSD (AT&L) DP/FC”.

PART 212—ACQUISITION OF COMMERCIAL ITEMS

212.504 [Amended]

12. Section 212.504 is amended by removing paragraph (a)(xxv) and redesignating paragraph (a)(xxvi) as paragraph (a)(xxv).

PART 213—SIMPLIFIED ACQUISITION PROCEDURES

213.302-5 [Amended]

13. Section 213.302-5 is amended as follows:

a. In paragraph (d)(i) by removing “225.109(d)” and adding in its place “225.1101(2)”; and

b. In paragraph (d)(ii) by removing “225.408(a)(vi)” and adding in its place “225.1101(13)”.

PART 217—SPECIAL CONTRACTING METHODS

217.172 [Amended]

14. Section 217.172 is amended in paragraph (d) in the last sentence by removing “Acquisition and Technology) (OUSD (A&T) DP)” and adding in its place “(Acquisition, Technology, and Logistics) (OUSD (AT&L) DP)”.

217.173 [Amended]

15. Section 217.173 is amended in paragraph (b)(5)(iv) by removing the parenthetical “(A&T)” and adding in its place “(AT&L)”.

16. Section 217.7001 is amended by revising the introductory text and paragraph (b) to read as follows:

217.7001 Definitions.

As used in this subpart—

* * * * *

(b) Property means items that fall within one of the generic categories listed in DoD 4140.1-R, DoD Materiel Management Regulation, Chapter 6.2, Exchange or Sale of Nonexcess Personal Property.

17. Section 217.7002 is amended by revising paragraph (b) to read as follows:

217.7002 Policy.

* * * * *

(b) DoD 4140.1-R, Chapter 6.2.

217.7003 [Amended]

18. Section 217.7003 is amended in paragraph (a) by removing “DoDI 4140.51” and adding in its place “DoD 4140.1-R, Chapter 6.2”.

217.7502 [Amended]

19. Section 217.7502 is amended by removing paragraph (b) and redesignating paragraph (c) as paragraph (b).

PART 219—SMALL BUSINESS PROGRAMS

219.201 [Amended]

20. Section 219.201 is amended in paragraph (f) in the last sentence by removing the parenthetical “(Acquisition and Technology)” and adding in its place “(Acquisition, Technology, and Logistics)”.

219.800 [Amended]

21. Section 219.800 is amended in paragraph (a) in the first sentence by removing the phrase “for Acquisition and Technology” and adding in its place the parenthetical “(Acquisition, Technology, and Logistics)”.

219.1006 [Removed]

22. Section 219.1006 is removed.

23. Section 219.1007 is added to read as follows:

219.1007 Procedures.

(b)(1) The Director, Small and Disadvantaged Business Utilization, Office of the Under Secretary of Defense (Acquisition, Technology, and Logistics) (OUSD(AT&L)), will determine whether reinstatement of small business set-asides is necessary to meet the agency goal and will recommend reinstatement to the Director of Defense Procurement (OUSD(AT&L)). Military departments and defense agencies shall not reinstate small business set-asides unless directed by the Director of Defense Procurement.

(d) Reporting requirements are at 204.670-2.

PART 225—FOREIGN ACQUISITION

225.103 [Amended]

24. Section 225.103 is amended in paragraph (b)(ii) introductory text by removing “(b)(2)(i)” and adding in its place “(b)(3)”.

225.770-4 [Amended]

25. Section 225.770-4 is amended in the last sentence by removing “(OUSD(A&T)DP” and adding in its place “Office of the Under Secretary of Defense (Acquisition, Technology, and Logistics)”.

225.871-7 [Amended]

26. Section 225.871-7 is amended in paragraph (a)(1) by removing “USD(A&T)DP” and adding in its place “the Director of Defense Procurement, Office of the Under Secretary of Defense (Acquisition, Technology, and Logistics),”.

225.872-2 [Amended]

27. Section 225.872-2 is amended in paragraph (a)(2)(ii) by removing the word “Assistant” and adding in its place the word “Under”.

225.872-3 [Amended]

28. Section 225.872-3 is amended in paragraph (f)(4) by removing the parenthetical “(Acquisition & Technology)” and adding in its place “(Acquisition, Technology, and Logistics)”.

225.872-4 [Amended]

29. Section 225.872-4 is amended in paragraph (b) by removing “225.105 and 225.303” and adding in its place “225.304 and 225.502”.

225.7002-2 [Amended]

30. Section 225.70002-2 is amended in paragraph (j)(2)(ii) introductory text by removing the parenthetical “(Acquisition and Technology)” and adding in its place “(Acquisition, Technology, and Logistics)”.

225.7005 [Amended]

31. Section 225.7005 is amended in paragraph (a)(1)(i) introductory text and in paragraph (b) introductory text by removing the parenthetical “(Acquisition and Technology)” and adding in its place “(Acquisition, Technology, and Logistics)”.

225.7018-2 [Amended]

32. Section 225.7018-2 is amended in the introductory text by removing the parenthetical “(Acquisition & Technology)” and adding in its place “(Acquisition, Technology, and Logistics)”.

225.7019-3 [Amended]

33. Section 224.7019-3 is amended in paragraph (b)(1) introductory text and paragraph (b)(5) introductory text by removing the parenthetical “(Acquisition and Technology)” and adding in its place “(Acquisition, Technology, and Logistics)”.

225.7202 [Amended]

34. Section 225.7202 is amended in the first sentence by removing the parenthetical “(A&T)” and adding in its place “(AT&L)”.

PART 231—CONTRACT COST PRINCIPLES AND PROCEDURES

231.205-70 [Amended]

35. Section 231.205-70 is amended as follows:

a. In paragraph (c)(1)(iv)(A), paragraph (c)(1)(iv)(B) introductory text, and paragraph (c)(1)(iv)(C) introductory text by removing the parenthetical “(Acquisition & Technology)” and adding in its place “(Acquisition, Technology, and Logistics)”;

b. In paragraph (d)(9) by removing the parenthetical “(Acquisition & Technology)” and adding in its place “(Acquisition, Technology, and Logistics)”, and by removing the parenthetical “(A&T)” and adding in its place “(AT&L)”; and

c. In paragraph (d)(10) by removing the parenthetical “(Acquisition & Technology)” and adding in its place “(Acquisition, Technology, and Logistics)”.

PART 232—CONTRACT FINANCING

232.006-5 [Amended]

36. Section 232.006-5 is amended as follows:

a. By removing the parenthetical “(Acquisition and Technology)” and adding in its place “(Acquisition, Technology, and Logistics)”; and

b. By removing “DD-ACQ” and adding in its place “DD-AT&L”.

232.070 [Amended]

37. Section 323.070 is amended as follows:

a. In paragraph (a) in the first sentence by removing “(Acquisition and Technology) (OUSD(A&T)DP)” and adding in its place “(Acquisition, Technology, and Logistics) (OUSD(AT&L)DP)”;

b. In paragraph (a) in the last sentence by removing the parenthetical “(A&T)” and adding in its place “(AT&L)”; and

c. In paragraph (b) in the last sentence by removing the parenthetical “(A&T)” and adding in its place “(AT&L)”.

232.071 [Amended]

38. Section 232.071 is amended in paragraphs (a)(1), (b)(1), and (b)(3) by removing the parenthetical “(A&T)” and adding in its place “(AT&L)”.

232.501-2 [Amended]

39. Section 232.501-2 is amended as follows:

a. In the first sentence by removing “USD(A&T)DP” and adding in its place “Director of Defense Procurement, Office of the Under Secretary of Defense (Acquisition, Technology, and Logistics) (OUSD(AT&L)DP” and

b. In the last sentence by removing “the USD(A&T)DP” and adding in its place “(OUSD(AT&L)DP)”

232.617 [Amended]

40. Section 232.617 is amended in paragraph (a) by removing “USD(A&T)DP” and adding in its place “Director of Defense Procurement, Office of the Under Secretary of Defense (Acquisition, Technology, and Logistics) (OUSD(AT&L)DP”.

232.803 [Amended]

41. Section 232.803 is amended in paragraph (d) in the first sentence by removing the phrase “for Acquisition and Technology” and adding in its place the parenthetical “(Acquisition, Technology, and Logistics)”

PART 235—RESEARCH AND DEVELOPMENT CONTRACTING

235.006 [Amended]

42. Section 235.006 is amended as follows:

a. In paragraph (b)(i)(C)(1) introductory text by removing “(Acquisition and Technology) (USD(A&T))” and adding in its place “(Acquisition, Technology, and Logistics) (USD(AT&L))”;

b. In paragraph (b)(ii) introductory text by removing the parenthetical “(A&T)” both places it appears and adding in its place “(AT&L)”; and

c. In paragraph (b)(iii) by removing the parenthetical “(A&T)” and adding in its place “(AT&L)”.

PART 236—CONSTRUCTION AND ARCHITECT—ENGINEER CONTRACTS

43. Sections 236.213 and 236.213-70 are added to read as follows:

236.213 Special procedures for sealed bidding in construction contracting.

236.213-70 Additive or deductive items.

(a) If it appears that sufficient funds may not be available for all the desired construction features, consider using a bid schedule with—

(1) A first or base bid item covering the work generally as specified; and

(2) A list of priorities that contains one or more additive or deductive bid items that progressively add or omit specified features of the work in a stated order of priority. (Normally, do not mix additive and deductive bid items in the same solicitation.)

(b) Before opening the bids, record in the contract file the amount of funds available for the project.

(c) Determine the low bidder and the bid items to be awarded as follows:

(1) Use the recorded amount of available funds to determine the low bidder, which will be the bidder that—

(i) Is otherwise eligible for award; and

(ii) Offers the lowest aggregate amount for the first or base bid item, plus or minus (in order of listed priority), those additive or deductive bid items that provide the most features within the funds available.

(2) Evaluate all bids on the basis of the same additive or deductive bid items.

(i) If adding another item from the bid schedule list of priorities would make the award exceed the available funds, skip that item and go to the next item from the list of priorities.

(ii) Add the next item if an award can be made that includes the item and is still within the available funds.

(3) Use the list of priorities only to determine the low bidder. After determining the low bidder, an award may be made on any contribution if—

(i) It is in the best interests of the Government;

(ii) Funds are available at time of award; and

(iii) The low bidder's price for the combination is less than the price offered by any other responsive, responsible bidder.

Subpart 236.3—[Removed]

44. Subpart 236.3 is removed

PART 242—CONTRACT ADMINISTRATION AND AUDIT SERVICES

242.771-3 [Amended]

45. Section 242.771-3 is amended as follows:

a. In paragraph (c) by removing the parenthetical “(USD (A&T) DP)” and adding in its place “, Office of the Under Secretary of Defense (Acquisition, Technology, and Logistics (OUSD (AT&L))),”; and

b. In paragraph (d) introductory text by removing the parenthetical “(USD (A&T) DDR&E)” and adding in its place “(OUSD (AT&L) DDR&E)”.

242.1203 [Amended]

46. Section 242.1203 is amended in paragraph (b)(2)(A) by removing the parenthetical “(c)” and adding in its place “(e)”

PART 249—TERMINATION OF CONTRACTS

249.105-1 [Amended]

47. Section 249.105-1 is amended in the introductory text by removing “DD-A&T” and adding in its place “DD-AT&L”.

48. Section 249.7000 is amended by revising paragraphs (a)(3) and (b)(2) and the first two sentences of paragraph (d) to read as follows:

249.7000 Terminated contracts with Canadian Commercial Corporation.

(a) * * *

(3) The Procedures Manual on Termination of Contracts, Public Works and Government Services Canada.

(b) * * *

(2) That the Contract Claims Resolution Board of the Public Works and Government Services Canada has approved settlements with Canadian subcontractors when the Procedures Manual on Termination of Contracts requires such approval.

* * * * *

(d) The Canadian Commercial Corporation should send all termination settlement proposals submitted by U.S. subcontractors and suppliers to the TCO of the cognizant contract administration office of the Defense Contract Management Agency for settlement. The TCO will inform the Canadian Commercial Corporation of the amount of the net settlement of U.S. subcontractors and suppliers so that this amount can be included in the Canadian Commercial Corporation termination proposal. * * *

249.7001 [Amended]

49. Section 249.7001 is amended in paragraph (f) by removing “DD-A&T” and adding in its place “DD-AT&L”.

PART 250—EXTRAORDINARY CONTRACTUAL ACTIONS

250.201-70 [Amended]

50. Section 250.201-70 is amended as follows:

a. In paragraph (b)(1) by removing “(Acquisition & Technology) (USDA&T))” and adding in its place “(Acquisition, Technology, and Logistics) (USD (AT&L))”; and

b. In paragraph (b)(2) by removing the parenthetical “(A&T)” and adding in its place “(AT&L)”

252—SOLICITATION PROVISIONS AND CONTRACT CLAUSES

252.225-7026 [Amended]

51. Section 252.225-7026 is amended as follows:

a. By revising the clause date to read “(JUN 2000)”; and

b. In paragraph (b)(3) by removing the parenthetical “(A&T)” and adding in its place “(AT&L)”.

PART 253—FORMS

253.213-70 [Amended]

52. Section 253.213-70 is amended in paragraph (e), under the heading “17 Accounting and Appropriation Data/Local Use—” by removing “204.7108” and adding in its place “204.7107”.

53. The note at the end of Part 253 is amended as follows:

a. In the entry “253.303-1391” by removing “FY 19_” and adding in its place “FY __” and

b. By adding, after the entry “253.303-1391”, the entry “253.303-1391c FY __ Military Construction Project Data (continuation).”.

Appendix A—Armed Services Board of Contract Appeals

PART 2—[AMENDED]

54. Appendix A to Chapter 2 is amended in Part 2 in the Preface, under the heading “II. Location and Organization of the Board”, in paragraph (a) as follows:

a. By adding “-3217” after “22041”;

b. By removing “(202) 756-8500” and adding in its place “(703) 681-8500”; and

c. By removing “756-8502” and adding in its place “(703) 681-8502”.

Appendix G—Activity Address Numbers

G-102 [Amended]

55. Appendix G to Chapter 2 is amended in Section G-102 in paragraph (b)(2) by removing the parenthetical “(A&T)” and adding in its place “(AT&L)”.

56. Appendix G, Part 3, is amended by revising the entry “N00030”; and by adding, in alpha-numerical order, two new entries to read as follows:

PART 3—NAVY ACTIVITY ADDRESS NUMBERS

* * * * *

N00030 Strategic Systems Programs

EK* 3801 Nebraska Avenue

EKO-9 Washington, DC 20393-5446

* * * * *

N46450 Officer-In-Charge

L50-9 Fleet and Industrial Supply Center, Jacksonville Detachment, 930 USS Hunley Avenue, Room 214, Kings Bay, GA 31547-2617

* * * * *

N68836 Commanding Officer

J9 Fleet and Industrial Supply Center, 110 Yorktown Avenue, Jacksonville, FL 32212-0097

* * * * *

57. Appendix G, Part 4, is amended by removing the entry “M67355”; and by adding, in alpha-numerical order, two new entries to read as follows:

PART 4—MARINE CORPS ACTIVITY ADDRESS NUMBERS

* * * * *

M20001 Contracting Office

MUN Headquarters and Service Company

(MAJ00027) Marine Forces Atlantic, Building CA-486, Room 203, 1468 Ingram Street, Norfolk, VA 23551-2596

* * * * *

M29000 Contingency Contracting Office

MSZ 3D Force Service Support Group

(MAJ00027) Marine Forces Pacific, Unit 38404, FPO AP 96604-8404

* * * * *

58. Appendix G, Part 5, is amended as follows:

a. By revising the entry “F04605”; and

b. In the entry “F30602” by removing the abbreviation “AFRL/IFK” and adding in its place “AFRL/IFOJ”. The revised text reads as follows:

PART 5—AIR FORCE ACTIVITY ADDRESS NUMBERS

* * * * *

F04605 452 LSS/LGC

5H 1940 Graeber Street, Building 449, March ARB, CA 92518-1650

* * * * *

[FR Doc. 00-15818 Filed 6-26-00; 8:45 am]

BILLING CODE 5000-04-M